DEPARTMENT OF DEFENSE

Office of the Secretary

[Docket ID DOD-2012-OS-0120]

Privacy Act of 1974; Systems of Records

AGENCY: National Security Agency/Central Security Service, DoD.

ACTION: Notice to amend a system of records.

SUMMARY: The National Security Agency (NSA) is proposing to amend a system of records notice in its existing inventory of records systems subject to the Privacy Act of 1974 (5 U.S.C. 552a), as amended.

DATES: This proposed action will be effective on November 5, 2012 unless comments are received which result in a contrary determination. Comments will be accepted on or before November 2, 2012.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kris Grein, National Security Agency/Central Security Service (NSA/CSS), Freedom of Information Act and Privacy Act Office, 9800 Savage Road, Suite 6248, Ft. George G. Meade, MD 20755-6248, or by phone at (301) 688-6527.

SUPPLEMENTARY INFORMATION: The National Security Agency/Central Security System systems of records notices subject to the Privacy Act of 1974 (5 U.S.C. 552a), as amended, have been published in the Federal Register and are available from the address above.

The specific changes to the records system being amended are set forth below. The proposed amendment is not within the purview of subsection (r) of the Privacy Act of 1974 (5 U.S.C. 552a), as amended, which requires the submission of a new or altered system report.

Dated: September 26, 2012.
Morgan F. Park,
Alternate OSD Federal Register Liaison Officer, Department of Defense.

GNSA 08

System name:

NSA/CSS Payroll Processing File (June 8, 2009, 74 FR 27114)

Changes:

* * * * *

System location:

Delete entry and replace with “Primary location: National Security Agency/Central Security Service, Ft. George G. Meade, MD 20755-6000.

Decentralized segments:

Defense Intelligence Agency (DIA) Headquarters and DIA field elements, DoD activities supported by DIA, and National Security Agency (NSA) field elements as authorized and appropriate.

For official mailing addresses for any of the decentralized system locations, write to the National Security Agency/Central Security Service, 9800 Savage Road, Suite 6248, Ft. George G. Meade, MD 20755-6248.”

* * * * *

Authority for maintenance of the system:

Delete entry and replace with “Section 6 of the National Security Agency Act of 1959, Public Law 86-36 (50 U.S.C. 402 note); Title 5, Part III, of the United States Code (Employees); Title 31, Chapter 35, of the United States Code (Accounting and Collection); Title 5, Chapter 1, of the United States Code of Federal Regulations (Office of Personnel Management) and E.O. 9397 (SSN), as amended.”

* * * * *

Safeguards:

Delete entry and replace with “Access to facilities is limited to security-cleared personnel and escorted visitors only. Within the facilities themselves, access to paper and computer printouts are controlled by limited-access and lockable containers. Access to electronic means is limited and controlled by computer password protection.”

* * * * *

System manager(s) and address:

Delete entry and replace with “Chief, Payroll Division, National Security Agency/Central Security Service, Suite 6855, Ft. George G. Meade, MD 20755-6855.”

Notification procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, SSN, mailing address, telephone number and signature.”

Record access procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, SSN, mailing address, telephone number and signature.”

Contesting record procedures:

Delete entry and replace with “The NSA/CSS rules for contesting contents and appealing initial determinations are published at 32 CFR part 322 or may be obtained by written request addressed to the National Security Agency/Central Security Service, Freedom of Information Act/Privacy Office, 9800 Savage Road, Suite 6248, Ft. George G. Meade, MD 20755-6248.”

* * * * *

[FR Doc. 2012-24302 Filed 10-2-12; 8:45 am]

BILLING CODE 5001-06-P